DEPARTMENT OF THE INTERIOR

Fish and Wildlife Service

[FWS-HQ-MB-2015-N204; 91100-3740-GRNT 7C]

Announcement of Meetings: North American Wetlands Conservation Council; Neotropical Migratory Bird Conservation Advisory Group

AGENCY: Fish and Wildlife Service, Interior.

ACTION: Notice of meetings.

SUMMARY: The North American Wetlands Conservation Council (Council) will meet to select North American Wetlands Conservation Act (NAWCA) grant proposals for recommendation to the Migratory Bird Conservation Commission (Commission). This meeting is open to the public. The Advisory Group for the Neotropical Migratory Bird Conservation Act (NMBCA) grants program (Advisory Group) also will meet. This meeting is also open to the public, and interested persons may present oral or written statements.

DATES:

Council: Meeting is December 2, 2015, from 8:30 a.m. to 4:30 p.m. The Council will consider Canadian, Mexican, and U.S. Standard grant proposals. If you are interested in presenting information at this public meeting, contact the Council Coordinator no later than November 25, 2015.

Advisory Group: Meeting is December 1, 2015, from 8:30 a.m. to 4:30 p.m. The Advisory Group will discuss the strategic direction and management of the NMBCA program. If you are interested in presenting information at this public meeting, contact the Council Coordinator no later than November 25, 2015.

ADDRESSES: The Council and Advisory Group meetings will take place at Francis Marion Hotel, 387 King Street, Charleston, South Carolina 29403.

FOR FURTHER INFORMATION CONTACT: Sarah Mott, Council Coordinator, by phone at 703-358-1784; by email at dbhc@fws.gov; or by U.S. mail at U.S. Fish and Wildlife Service, 5275 Leesburg Pike MS: MB, Falls Church, Virginia 22041.

SUPPLEMENTARY INFORMATION: The North American Wetlands Conservation Council (Council) will meet to select North American Wetlands Conservation Act (NAWCA) grant proposals for recommendation to the Migratory Bird Conservation Commission (Commission). This meeting is open to the public. The Advisory Group for the Neotropical Migratory Bird Conservation Act (NMBCA) grants program (Advisory Group) also will meet. This meeting is also open to the public, and interested persons may present oral or written statements.

About the Council

In accordance with NAWCA (Pub. L. 101-233, 103 Stat. 1968, December 13, 1989, as amended), the State-private-Federal Council meets to consider wetland acquisition, restoration, enhancement, and management projects for recommendation to, and final funding approval by, the Commission.

The North American Wetlands Conservation Act of 1989 provides matching grants to organizations and individuals who have developed partnerships to carry out wetlands conservation projects in the United States, Canada, and Mexico. These projects must involve long-term protection, restoration, and/or enhancement of wetlands and associated uplands habitats for the benefit of all wetlands-associated migratory birds. Project proposal due dates, application instructions, and eligibility requirements are available on the NAWCA Web site at www.fws.gov/birds/grants/north-american-wetland-conservation-act.php.

About the Advisory Group

In accordance with NMBCA (Pub. L. 106-247, 114 Stat. 593, July 20, 2000), the Advisory Group will hold its meeting to discuss the strategic direction and management of the NMBCA program and provide advice to the Director of the Fish and Wildlife Service.

The Neotropical Migratory Bird Conservation Act of 2000 promotes long-term conservation of Neotropical migratory birds and their habitats through a competitive grants program by promoting partnerships, encouraging local conservation efforts, and achieving habitat protection in 36 countries. The goals of the Neotropical Migratory Bird Conservation Act include perpetuating healthy bird populations, providing financial resources for bird conservation, and fostering international cooperation. Because the greatest need is south of the U.S. border, at least 75 percent of NMBCA funding supports projects outside the United States.

Project proposal due dates, application instructions, and eligibility requirements are available on the NMBCA Web site at http://www.fws.gov/birds/grants/neotropical-migratory-bird-conservation-act.php.

Public Input

If you wish to: | You must contact the Council Coordinator (see FOR FURTHER INFORMATION CONTACT) no later than
(1) Attend the Council or Advisory Group meeting | November 25, 2015.
(2) Submit written information or questions before the Council or Advisory Group meeting for consideration during the meeting | November 25, 2015.

Submitting Written Information or Questions

Interested members of the public may submit relevant information or questions to be consider during the public meetings. If you wish to submit a written statement, so that the information may be made available to the Council or Advisory Group for their consideration prior to the meetings, you must contact the Council Coordinator by the date in Public Input. Written statements must be supplied to the Council Coordinator in both of the following formats: One hard copy with original signature, and one electronic copy via email (acceptable file formats are Adobe Acrobat PDF, MS Word, MS PowerPoint, or rich text file).

Giving an Oral Presentation

Individuals or groups requesting to make an oral presentation at the meetings will be limited to 2 minutes per speaker, with no more than a total of 30 minutes for all speakers. Interested parties should contact the Council Coordinator by the date above, in writing (preferably via email; see FOR FURTHER INFORMATION CONTACT), to be placed on the public speaker list for either of these meetings. Nonregistered public speakers will not be considered during the Council meeting. Registered speakers who wish to expand upon their oral statements, or those who had wished to speak but could not be accommodated on the agenda, are invited to submit written statements to the Council within 30 days following the meeting.

Meeting Minutes

Summary minutes of the Council and Advisory Group meetings will be maintained by the Council Coordinator at the address under FOR FURTHER INFORMATION CONTACT. Meeting notes will be available by contacting the Council Coordinator within 30 days following the meeting. Personal copies may be purchased for the cost of duplication.

Jerome Ford,
Assistant Director, Migratory Birds.

[FR Doc. 2015-27699 Filed 10-29-15; 8:45 am]

BILLING CODE 4310-55-P